DEPARTMENT OF TRANSPORTATION

Federal Aviation Administration

14 CFR Part 39

[Docket No. FAA-2019-0669; Product Identifier 2019-NM-091-AD]

RIN 2120-AA64

Airworthiness Directives; Saab AB, Saab Aeronautics (Formerly Known as Saab AB, Saab Aerosystems) Airplanes

AGENCY: Federal Aviation Administration (FAA), DOT.

ACTION: Notice of proposed rulemaking (NPRM).

SUMMARY: The FAA proposes to supersede Airworthiness Directive (AD) 2019-03-19, which applies to all Saab AB, Saab Aeronautics Model SAAB 2000 airplanes. AD 2019-03-19 requires a functional check of certain fuel probes, and replacement with a serviceable part if necessary. Since the FAA issued AD 2019-03-19, the agency has determined the definition of a “serviceable part” must be revised. This proposed AD would retain a functional check of certain fuel probes, and replacement with a serviceable part if necessary. The FAA is proposing this AD to address the unsafe condition on these products.

DATES: The FAA must receive comments on this proposed AD by October 28, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Saab AB, Saab Aeronautics, SE-581 88, Linköping, Sweden; telephone +46 13 18 5591; fax +46 13 18 4874; email saab2000.techsupport@saabgroup.com; internet http://www.saabgroup.com. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2019-0669; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Shahram Daneshmandi, Aerospace Engineer, International Section, Transport Standards Branch, FAA, 2200 South 216th St., Des Moines, WA 98198; telephone and fax 206-231-3220.

SUPPLEMENTARY INFORMATION:

Comments Invited

The FAA invites you to send any written relevant data, views, or arguments about this proposal. Send your comments to an address listed under the ADDRESSES section. Include “Docket No. FAA-2019-0669; Product Identifier 2019-NM-091-AD” at the beginning of your comments. The FAA specifically invites comments on the overall regulatory, economic, environmental, and energy aspects of this proposed AD. The FAA will consider all comments received by the closing date and may amend this proposed AD based on those comments.

The FAA will post all comments received, without change, to http://www.regulations.gov, including any personal information you provide. The FAA will also post a report summarizing each substantive verbal contact received about this proposed AD.

Discussion

The FAA issued AD 2019-03-19, Amendment 39-19571 (84 FR 6062, February 26, 2019) (“AD 2019-03-19”), for all Saab AB, Saab Aeronautics Model SAAB 2000 airplanes. AD 2019-03-19 requires a functional check of certain fuel probes, and replacement with a serviceable part if necessary. AD 2019-03-19 resulted from reports that certain fuel probes indicated misleading fuel quantities on the engine indicating and crew alerting system (EICAS). The FAA issued AD 2019-03-19 to address deteriorated capacity of the fuel probes, which could lead to incorrect fuel reading, possibly resulting in fuel starvation and uncommanded engine in-flight shutdown, and consequent reduced control of the airplane.

Actions Since AD 2019-03-19 Was Issued

The European Union Aviation Safety Agency (EASA), which is the Technical Agent for the Member States of the European Union, has issued EASA AD 2018-0187R1, dated May 10, 2019 (referred to after this as the Mandatory Continuing Airworthiness Information, or “the MCAI”), to correct an unsafe condition for all Saab AB, Saab Aeronautics Model SAAB 2000 airplanes. The MCAI states:

Occurrences were reported that certain fuel probes, installed on SAAB 2000 aeroplanes, indicated misleading fuel quantities on the engine indicating and crew alerting system (EICAS). The investigation results suggest that this may be an ageing phenomenon, leading to deteriorated capacity of the fuel probes.

This condition, if not detected and corrected, could lead to incorrect fuel reading, possibly resulting in fuel starvation and uncommanded engine in-flight shut-down, with consequent reduced control of the aeroplane.

To address this potential unsafe condition, SAAB issued the SB [service bulletin] to provide instructions for a functional check.

For the reason described above, this [EASA] AD requires a one-time functional check of the fuel quantity system and the fuel low level EICAS warnings to determine whether any affected parts are out of tolerance and, depending on findings, replacement of those affected parts.

This [EASA] AD is revised to amend the definition of a serviceable part.

You may examine the MCAI in the AD docket on the internet at http://www.regulations.gov by searching for and locating Docket No. FAA-2019-0669.

Related Service Information Under 1 CFR Part 51

This proposed AD would require Saab Service Bulletin 2000-28-028, dated April 19, 2018, which the Director of the Federal Register approved for incorporation by reference as of April 2, 2019 (84 FR 6062, February 26, 2019).

This service information is reasonably available because the interested parties have access to it through their normal course of business or by the means identified in the ADDRESSES section.

FAA's Determination

This product has been approved by the aviation authority of another country, and is approved for operation in the United States. Pursuant to a bilateral agreement with the State of Design Authority, the FAA has been notified of the unsafe condition described in the MCAI and service information referenced above. The FAA is proposing this AD because the agency evaluated all the relevant information and determined the unsafe condition described previously is likely to exist or develop on other products of the same type design.

Proposed Requirements of This NPRM

This proposed AD would retain all of the requirements of AD 2019-03-19, except a revised definition of a “serviceable part” is included in this proposed AD.

Costs of Compliance

The FAA estimates that this proposed AD affects 8 airplanes of U.S. registry.

The FAA estimates the following costs to comply with this proposed AD:

Estimated Costs for Required Actions
Action | Labor cost | Parts cost | Cost per product | Cost on U.S. operators
Retained actions from AD 2019-03-19 | 8 work-hours × $85 per hour = $680 | $0 | $680 | $5,440

The FAA estimates the following costs to do any necessary on-condition action that would be required based on the results of any required actions. The FAA has no way of determining the number of aircraft that might need this on-condition action:

Estimated Costs of On-Condition Actions
Labor cost | Parts cost | Cost per product
2 work-hours × $85 per hour = $170 | $6,295 | $6,465

The new definition of a “serviceable part” specified in this proposed AD adds no additional economic burden.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2019-03-19, Amendment 39-19571 (84 FR 6062, February 26, 2019), and adding the following new AD:

Saab AB, Saab Aeronautics (Formerly Known as Saab AB, Saab Aerosystems): Docket No. FAA-2019-0669; Product Identifier 2019-NM-091-AD.

(a) Comments Due Date

The FAA must receive comments by October 28, 2019.

(b) Affected ADs

This AD replaces AD 2019-03-19, Amendment 39-19571 (84 FR 6062, February 26, 2019) (“AD 2019-03-19”).

(c) Applicability

This AD applies to all Saab AB, Saab Aeronautics (formerly known as Saab AB, Saab Aerosystems) Model SAAB 2000 airplanes, certificated in any category.

(d) Subject

Air Transport Association (ATA) of America Code 28, Fuel.

(e) Reason

This AD was prompted by reports that certain fuel probes indicated misleading fuel quantities on the engine indicating and crew alerting system (EICAS). The FAA is issuing this AD to address deteriorated capacity of the fuel probes, which could lead to incorrect fuel reading, possibly resulting in fuel starvation and uncommanded engine in-flight shutdown, and consequent reduced control of the airplane.

(f) Compliance

Comply with this AD within the compliance times specified, unless already done.

(g) Retained Definitions With New Definition of a Serviceable Part

This paragraph restates paragraph (g) of AD 2019-03-19, with a new definition of a “serviceable part.”

(1) An “affected part” is a fuel probe having part number (P/N) 20136-0101, P/N 20136-0102, P/N 20136-0103, P/N 20136-0104, P/N 20136-0105, or P/N 20136-0106; with fuel low level sensors having P/N 20137-0101.

(2) A “serviceable part” is defined in paragraphs (g)(2)(i) and (ii) of this AD. The definition has been changed as of the effective date of this AD. Operators who have already complied with paragraph (i) of this AD before the effective date of this AD do not need to redo the replacement specified in paragraph (i) of this AD using the new definition of a serviceable part.

(i) Before the effective date of this AD: A “serviceable part” is an affected part that has accumulated less than 1,500 total flight hours or 12 months since first installation on an airplane.

(ii) On or after the effective date of this AD: A “serviceable part” is an affected part that has accumulated less than 1,500 total flight hours or 12 months since first installation on an airplane, having been checked and found to be within the acceptable tolerances, in accordance with the Accomplishment Instructions of Saab Service Bulletin 2000-28-028, dated April 19, 2018, or received as serviceable following repair or overhaul.

(h) Retained Functional Check With No Changes

This paragraph restates paragraph (h) of AD 2019-03-19, with no changes. Within 1,500 flight hours or 12 months after April 2, 2019 (the effective date of AD 2019-03-19), whichever occurs first, accomplish a functional check of the fuel indicator gauging accuracy and the low level warning, in accordance with the Accomplishment Instructions of Saab Service Bulletin 2000-28-028, dated April 19, 2018.

(i) Retained Corrective Action With No Changes

This paragraph restates paragraph (i) of AD 2019-03-19, with no changes. If the functional check required by paragraph (h) of this AD is found to be out of tolerance, within the limits and under the applicable conditions, as specified in the operator's Minimum Equipment List (MEL), replace the affected part with a serviceable part, in accordance with the Accomplishment Instructions of Saab Service Bulletin 2000-28-028, dated April 19, 2018.

(j) Parts Installation Limitation

As of the effective date of this AD, no person may install, on any airplane, an affected part, unless it is a serviceable part, as defined in paragraph (g)(2)(ii) of this AD.

(k) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l)(2) of this AD. Information may be emailed to 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the European Union Aviation Safety Agency (EASA); or Saab AB, Saab Aeronautics's EASA Design Organization Approval (DOA). If approved by the DOA, the approval must include the DOA-authorized signature.

(l) Related Information

(1) Refer to Mandatory Continuing Airworthiness Information (MCAI) EASA AD 2018-0187R1, dated May 10, 2019, for related information. This MCAI may be found in the AD docket on the internet at http://www.regulations.gov by searching for and locating Docket No. FAA-2019-0669.

(2) For more information about this AD, contact Shahram Daneshmandi, Aerospace Engineer, International Section, Transport Standards Branch, FAA, 2200 South 216th St., Des Moines, WA 98198; telephone and fax 206-231-3220.

(3) For service information identified in this AD, contact Saab AB, Saab Aeronautics, SE-581 88, Linköping, Sweden; telephone +46 13 18 5591; fax +46 13 18 4874; email saab2000.techsupport@saabgroup.com; internet http://www.saabgroup.com. You may view this service information at the FAA, Transport Standards Branch, 2200 South 216th St., Des Moines, WA. For information on the availability of this material at the FAA, call 206-231-3195.

Issued in Des Moines, Washington, on September 3, 2019.
Michael Kaszycki,
Acting Director, System Oversight Division, Aircraft Certification Service.

[FR Doc. 2019-19505 Filed 9-11-19; 8:45 am]

BILLING CODE 4910-13-P